DEPARTMENT OF COMMERCE

National Oceanic and Atmospheric Administration

RIN 0648-XC138

Western Pacific Fisheries; Approval of a Marine Conservation Plan for American Samoa

AGENCY: National Marine Fisheries Service (NMFS), National Oceanic and Atmospheric Administration (NOAA), Commerce.

ACTION: Notice of agency decision.

SUMMARY: NMFS announces approval of a marine conservation plan for American Samoa.

DATES: This agency decision is effective from August 11, 2012, through August 10, 2015.

ADDRESSES: Copies of the marine conservation plan, identified by NOAA-NMFS-2012-0155, are available from www.regulations.gov, or the Western Pacific Fishery Management Council (Council), 1164 Bishop St., Suite 1400, Honolulu, HI 96813, tel 808-522-8220.

FOR FURTHER INFORMATION CONTACT: Jarad Makaiau, Sustainable Fisheries, NMFS Pacific Islands Regional Office, 808-944-2108.

SUPPLEMENTARY INFORMATION: Section 204(e) of the Magnuson-Stevens Fishery Conservation and Management Act (Magnuson-Stevens Act) authorizes the Secretary of State, with the concurrence of the Secretary of Commerce (Secretary) and in consultation with the Council, to negotiate and enter into a Pacific Insular Area fishery agreement (PIAFA). A PIAFA would allow foreign fishing within the U.S. Exclusive Economic Zone (EEZ) adjacent to American Samoa, Guam, or the Northern Mariana Islands with the concurrence of, and in consultation with, the Governor of the Pacific Insular Area to which the PIAFA applies. Before entering into a PIAFA, the appropriate Governor, with the concurrence of the Council, must develop a 3-year Marine Conservation Plan (MCP) providing details on uses for any funds collected by the Secretary under the PIAFA.

The Magnuson-Stevens Act requires payments received under a PIAFA to be deposited into the United States Treasury and then covered over to the Treasury of the Pacific Insular Area for which funds were collected. In the case of violations by foreign fishing vessels occurring within the EEZ off any Pacific Insular Area, amounts received by the Secretary attributable to fines and penalties imposed under the Magnuson-Stevens Act, including sums collected from the forfeiture and disposition or sale of property seized subject to its authority, shall be deposited into the Treasury of the Pacific Insular Area adjacent to the EEZ in which the violation occurred, after direct costs of the enforcement action are subtracted. Any funds deposited into the Treasury of the Pacific Insular Area may be used by the jurisdiction for fisheries enforcement and for implementation of an MCP.

An MCP must be consistent with the Council's fishery ecosystem plans, must identify conservation and management objectives (including criteria for determining when such objectives have been met), and must prioritize planned marine conservation projects. Although no foreign fishing is being considered at this time, the Council, at its 154th meeting held June 26-28, 2012, reviewed and approved the American Samoa MCP and recommended its submission to the Secretary for approval. On July 12, 2011, the Lt. Governor of American Samoa submitted the MCP to NMFS, the designee of the Secretary, for review and approval.

The MCP contains seven conservation and management objectives under which 48 planned projects and activities designed to meet the objective are identified and described, as follows:

Objective 1. The people of American Samoa enjoy the highest level of social and economic benefits through sustainable fisheries development of fishery resources. Projects to support this objective include:

1. Development of a new multi-platform fishing vessel design to replace the alia;

2. Boat building and fishing vessel construction training;

3. Fishermen training programs;

4. Fishermen financial lending programs;

5. Manua Islands fishing vessel acquisition project;

6. Construction of new dock and landing space for commercial vessels;

7. Construction of cold storage and fish processing facility;

8. Purchase of ice making equipment;

9. Development of fish marketing plan;

10. Training for fish handling procedures and development of Hazard Analysis Critical Control Point plans;

11. Support the organization of American Samoa fishermen's cooperatives;

12. Technology and safety upgrades for the American Samoa bottomfish fleet;

13. Promoting American Samoa as a premier sport fishing destination by holding annual sport fishing tournaments;

14. Enhancing fishing opportunities by deploying fish aggregation devices (FAD) dedicated to small non-longline pelagic fishing vessels;

15. Deepwater bathymetric surveys to support FAD deployment location in Tutuila and Manua; and

16. Development of brood stocks of giant clam and sea urchins for population restoration and enhancement.

Objective 2. Support quality research and obtain the most complete scientific information available to assess and manage fisheries. Projects to support this objective include:

17. Understanding movement patterns of target species in no-take marine protected areas;

18. Understanding local-scale current patterns around Tutuila;

19. Improving data collection and analysis in Ofu, Olosega, and Tau;

20. Determining genetic connectivity of coral reef ecosystems in the Samoa archipelago;

21. Surveying fish spawning aggregations in American Samoa;

22. Developing size limits to manage fish stocks in American Samoa;

23. Estimating spawning period by conducting juvenile abundance surveys in Pala lagoon;

24. Assessing the health and quality of juvenile reef fish habitat;

25. Assessing the health and quality of mangrove habitat in Nuuuli and Leone; and

26. Enhancing fisheries GIS capacity.

Objective 3. Promote an ecosystem approach in fisheries management, reduce waste in fisheries and minimize interactions between fisheries and protected species. Projects to support this objective include:

27. Assessing bycatch and interactions in local fisheries;

28. Assessing distribution and population abundance of marine mammals;

29. Assessing spatial-temporal patters in abundance, distribution and movement of green and hawksbill turtles;

30. Determining reef carrying capacity through modeling;

31. Determining the extent and quality of deep reef habitat through use of drop cameras;

32. Coral recruitment survey and monitoring;

33. Assessing reef resilience to microalgae phase shift;

34. Removing marine debris from the marine environment;

35. Supporting coastal trash removal through community based groups; and

36. Developing a community-based coral rehabilitation program.

Objective 4. Foster broad and direct public participation in the Council's decision making process. There are no projects to support this objective at this time.

Objective 5. Recognize the importance of island cultures and traditional fishing in managing fishery resources and foster opportunities for participation. Projects to support this objective include:

37. Enhancing enforcement capabilities of village by deputizing community members;

38. Promoting traditional fishing practices; and

39. Review of American Samoa fishing regulations.

Objective 6. Promote education and outreach activities, as well as regional cooperation regarding fishery conservation issues. Projects to support this objective include:

40. High school marine fisheries resource management course;

41. Developing and testing a local marine science integrated curriculum;

42. Developing education tools to educate public on conservation;

43. Enhancing research training capabilities of local staff;

44. Enhancing regional cooperation by collaborative meetings and cross site visits with other South Pacific Territories;

45. Improving scientific awareness of junior biologist; and

46. Monitoring of coral reefs in Independent Samoa.

Objective 7. Encourage development of technologies and methods to achieve the most effective level of enforcement and to ensure safety at sea;

47. Installation of radar to monitor vessel movement within the Territory of American Samoa; and

48. Surveillance and enforcement of marine protected area.

This notice announces that NMFS has determined that the American Samoa MCP satisfies the requirements of the Magnuson-Stevens Act, and has approved the MCP for the 3-year period from August 11, 2012, through August 10, 2015.

Dated: September 19, 2012.
Lindsay Fullenkamp,
Acting Deputy Director, Office of Sustainable Fisheries, National Marine Fisheries Service.

[FR Doc. 2012-23487 Filed 9-21-12; 8:45 am]

BILLING CODE 3510-22-P